DEPARTMENT OF THE INTERIOR

Bureau of Land Management

[212.LLAK941200.L14400000. ET0000; AA-82862]

Notice of Application for Withdrawal Extension and Opportunity for Public Meeting; Alaska

AGENCY: Bureau of Land Management, Interior.

ACTION: Notice.

SUMMARY: The United States Air Force (USAF) has filed an application with the Bureau of Land Management (BLM) requesting the Secretary of the Interior extend Public Land Order (PLO) No. 7531 for an additional 20-year term. PLO No. 7531 withdrew 1.25 acres of public land from surface entry and mining, but not from mineral leasing laws, for the King Salmon Remediation site and reserved the site for the use by the USAF to protect the King Salmon Remediation Project in King Salmon, Alaska. This Notice advises the public of an opportunity to comment on this application for a withdrawal extension and to request a public meeting.

DATES: Comments and requests for a public meeting regarding this withdrawal application must be received by January 6, 2022.

ADDRESSES: Comments and public meeting requests should be sent to the Alaska State Director, BLM Alaska State Office, 222 West Seventh Avenue, No. 13, Anchorage, Alaska 99513-7504 or by email at blm_ak_state_director@blm.gov.

FOR FURTHER INFORMATION CONTACT: Chelsea Kreiner, BLM Alaska State Office, 907-271-4205, email ckreiner@blm.gov, or you may contact the BLM office at the address above. Persons who use a telecommunications device for the deaf (TDD) may call the Federal Relay Service (FRS) at 1-800-877-8339 to contact the above individual. The FRS is available 24 hours a day, 7 days a week. You will receive a reply during normal business hours.

SUPPLEMENTARY INFORMATION: The withdrawal established by PLO No. 7531 (67 FR 50894, (2002)) will expire August 6, 2022. The USAF has filed an application for the Secretary to extend PLO No. 7531 for an additional 20-year term. The purpose of the withdrawal extension is to continue protection for the King Salmon Remediation Project in King Salmon, Alaska.

A complete description of the land requested, along with all other records pertaining to the extension, can be examined in the BLM Alaska State Office at the address shown above.

Notice is hereby given that an opportunity for a public meeting is afforded in connection with this withdrawal extension. All interested parties who desire a public meeting for the purpose of being heard on this withdrawal extension application must submit a written request to the Alaska State Director, BLM Alaska State Office at the address in the ADDRESSES section, within January 6, 2022 of this Notice. Upon determination by the authorized officer that a public meeting will be held, the BLM will publish a notice of the date, time, and place in the Federal Register and local newspapers, and will post on the BLM website at www.blm.gov at least 30 days before the scheduled date of the meeting.

The withdrawal extension application will be processed in accordance with the regulations set-forth in 43 CFR 2310.4 and subject to Section 810 of the Alaska National Interest Lands Conservation Act, (16 U.S.C. 3120).

Before including your address, phone number, email address, or other personal identifying information in your comment, you should be aware that your entire comment including your personal identifying information may be made publicly available at any time. While you can ask us in your comment to withhold your personal identifying information from public review, we cannot guarantee that we will be able to do so.

(Authority: 43 CFR 2310.4)

Erika Reed,
Acting Alaska State Director.

[FR Doc. 2021-22010 Filed 10-7-21; 8:45 am]

BILLING CODE 4310-JA-P